DEPARTMENT OF HEALTH AND HUMAN SERVICES

Food and Drug Administration

21 CFR Part 310

[Docket Nos. 1976N-0052N (formerly 1976N-052N) and 1981N-0022 (formerly 81N-0022)]

RIN 0910-AF34, 0910-AF45

Phenylpropanolamine-Containing Drug Products for Over-the-Counter Human Use; Tentative Final Monographs

Correction

In proposed rule document E5-7646 beginning on page 75988 in the issue of Thursday, December 22, 2005, make the following corrections:

§ 310.545 [Corrected]

1. On page 75997, in the third column, in § 310.545(a)(6)(ii)(D), “Approved as of January 23, 2006” should read “Approved as of [date 30 days after date of publication in the Federal Register].”

2. On the same page, in the same column, in §310.545(a)(20)(ii), “Approved as of January 23, 2006” should read “Approved as of [date 30 days after date of publication in the Federal Register].”

3. On the same page, in the same column, in §310.545(d)(35), in the first line, “January 23, 2006” should read “[Date 30 days after date of publication in the Federal Register]”.

[FR Doc. Z5-7646 Filed 1-12-06; 8:45 am]

BILLING CODE 1505-01-D